DEPARTMENT OF AGRICULTURE

Forest Service

Dixie National Forest, Intermountain Region, Utah

AGENCY: Forest Service, USDA.

ACTION: Notice of intent to revise the Land and Resource Management Plan (Forest Plan) for the Dixie National Forest.

SUMMARY: This notice announces the intent of the Dixie National Forest to revise their Land and Resource Management Plan (Forest Plan). The revision will start under the 1982 planning regulations (36 CFR part 219). Initial steps of the revision process will focus on a communication strategy, organizing the revision team, information needs, resource inventory reviews, and establishing a Forest Plan revision mailing list. The forest is developing a communication strategy to engage interested people and groups early in the revision process. Public involvement is critical and will be requested throughout the revision effort. The Forest Plan revision will be done jointly with the fishlake National Forest.

ADDRESSES: Send written comments concerning this notice, communication strategy and requests to be added to the Forest plan revision mailing list to Mary Wagner, Forest Supervisor, Dixie National Forest, 1789 N. Wedgewood Lane, Cedar City, UT 84720.

FOR FURTHER INFORMATION CONTACT: Anthony Erba, Forest Planner, Dixie National Forest, 1789 N. Wedgewood Lane, Cedar City, UT 84720; phone (435) 865-3737.

SUPPLEMENTARY INFORMATION: The Forest Plan for the Dixie National Forest was completed in September 1986 and will remain in effect and continue to be implemented until the Plan is revised. In the past, a “Notice of Intent to Prepare an Environmental Impact Statement” was issued at the beginning of the forest planning process. This Notice addresses initiation of revision where the focus will be on collaboration with the public, organizing the revision team and information evaluation. Once the scope of the revision is better understood, the Forest will issue another Notice to prepare the Environmental Impact Statement.

This Notice initiates revision under the 1982 planning regulations (36 CFR part 219). The Forest Service is also preparing new draft planning regulations expected to be issued in the spring of 2002. Since these new regulations will reflect the latest national thinking on land and resource management planning, the Forest wills seriously consider switching to, and completing the forest plan revision under, the new regulations when they are finalized. An additional Notice will be issued if the Forest decides to switch.

Authority: 40 CFR 1501.7 and 1508.22, Forest Service Handbook 1909.15, Section 21).

Dated: April 26, 2002.
Mary Wagner,
Forest Supervisor, Dixie National Forest.

[FR Doc. 02-10973 Filed 5-9-02; 8:45 am]

BILLING CODE 3410-11-M